DEPARTMENT OF ENERGY

U.S. Energy Information Administration

Proposed Agency Information Collection

AGENCY: U.S. Energy Information Administration (EIA), Department of Energy.

ACTION: Notice and request for OMB review and comment.

SUMMARY: EIA has submitted an information collection request to the Office of Management and Budget (OMB) for extension of the following Oil and Gas Reserves System Survey Forms pursuant to the Paperwork Reduction Act of 1995: Form EIA-23L, “Annual Survey of Domestic Oil and Gas Reserves (Field Version)”; Form EIA-64A, “Annual Report of the Origin of Natural Gas Liquids Production”; and Form EIA-23S, “Annual Survey of Domestic Oil and Gas Reserves, (Summary Version)” Form EIA-23L is the only form that EIA proposes to change. There are no proposed changes to Forms EIA-64A and EIA-23S.

The proposed collection will be used to prepare electronic annual reports of U.S. proved reserves data that fulfill EIA's congressional mandate to provide accurate annual estimates of U.S. proved crude oil and natural gas reserves. The U.S. Government also uses the resulting information in EIA's reports to develop national and regional estimates of proved reserves of domestic crude oil and natural gas to facilitate national energy policy decisions.

DATES: Comments regarding this collection must be received on or before April 4, 2016. If you anticipate that you will be submitting comments, but find it difficult to do so within the period of time allowed by this notice, please advise the DOE Desk Officer at OMB of your intention to make a submission as soon as possible. The Desk Officer may be telephoned at 202-395-4718 or contacted by email at Chad_S_Whiteman@omb.eop.gov.

ADDRESSES: Written comments should be sent to the

DOE Desk Officer, Office of Information and Regulatory Affairs, Office of Management and Budget, New Executive Office Building, Room 10102, 735 17th Street NW., Washington, DC 20503, Chad_S_Whiteman@omb.eop.gov.

And to Steven G. Grape, U.S. Energy Information Administration, Mail Stop EI-24, Forrestal Building, 1000 Independence Avenue SW., Washington, DC 20585, Steven.Grape@eia.gov.

FOR FURTHER INFORMATION CONTACT: Requests for additional information should be directed to Mr. Grape, as listed above. The information collection instrument and instructions are available on the EIA Web site at:

Form EIA-23L, http://www.eia.gov/survey/#eia-23l

Form EIA-23S, http://www.eia.gov/survey/#eia-23s

Form EIA-64A, http://www.eia.gov/survey/#eia-64a.

SUPPLEMENTARY INFORMATION: This information collection request contains:

(1) OMB No. 1905-0057.

(2) Information Collection Request Title: Oil and Gas Reserves System.

(3) Type of Request: Revision of the currently approved Form EIA-23L; extension without changes of Form EIA-64A; and continued suspension of collection of the currently approved Form EIA-23S.

(4) Purpose: In response to Public Law 95-91 Section 657, estimates of U.S. oil and gas reserves are to be reported annually. Many U.S. government agencies have an interest in proved oil and gas reserves and the quality, reliability, and usefulness of reserves estimates. Among these are the U.S. Energy Information Administration (EIA), Department of Energy; Bureau of Ocean Energy Management (BOEM), Department of Interior; Internal Revenue Service (IRS), Department of the Treasury; and the Securities and Exchange Commission (SEC). Each of these organizations has specific purposes for collecting, using, or estimating proved reserves. EIA has a congressional mandate to provide accurate annual estimates of U.S. proved crude oil, natural gas, and natural gas liquids reserves, and EIA presents annual reserves data in EIA reports to meet this requirement. The BOEM maintains estimates of proved reserves to carry out their responsibilities in leasing, collecting royalty payments, and regulating the activities of oil and gas companies on Federal lands and water. Accurate reserve estimates are important, as the BOEM is second only to the IRS in generating Federal revenue. For the IRS, proved reserves and occasionally probable reserves are an essential component of calculating taxes for companies owning or producing oil and gas. The SEC requires publicly traded petroleum companies to annually file a reserves statement as part of their 10-K filing. The basic purpose of the 10-K filing is to provide public investors with a clear and reliable financial basis to assess the relative value, as a financial asset, of a company's reserves, especially in comparison to other similar oil and gas companies.

The Government also uses the resulting information to develop national and regional estimates of proved reserves of domestic crude oil and natural gas to facilitate national energy policy decisions. These estimates are essential to the development, implementation, and evaluation of energy policy and legislation. Data are used directly in EIA Web reports concerning U.S. crude oil and natural gas reserves, and are incorporated into a number of other Web reports and analyses.

EIA proposes to make the following changes to Form EIA-23L, “Annual Survey of Domestic Oil and Gas Reserves”:

• Change the title of Form EIA-23L to “Annual Report of Domestic Oil and Gas Reserves (County Level)”;

• Collect additional parent company and subsidiary company (if applicable) information on the cover page;

• Change the title of Schedule A to “Operated Proved Reserves, Production, and Related Data by County”;

• Operators will be instructed to file their proved reserves by county rather than by field. Line Item 2.0 will be named “County Data (operated basis);”

• Line Item 2.1.4 “Field Code”, will be changed to “County Name;”

• Line Item 2.1.5 “MMS Code” will be changed to “Type Code;”

• Line Item 2.1.6. “Field Name” will be changed to “Field, Play, or Prospect Name (Optional)”;

• Line Items 2.1.9 “water depth” and 2.1.10 “field discovery year” will be replaced with 2.1.9 “# of producing wells on December 31, [survey year]”, 2.1.10 “# of wells completed or purchased [in survey year]”;

• Line Item 2.1.11, “Prospect Name (optional) will be replaced with “# of wells abandoned or sold [in survey year]”; and

• Line Item 2.1.12-15, Column (F) “Extensions”, Column (G) “New Field Discoveries”, and Column (H) “New Reservoir Discoveries in Old Fields” will be replaced with Column (F) “Extensions and Discoveries”.

Comments and Feedback are requested on these proposed changes to Form EIA-23L. Secondary reports that use the data include EIA's Annual Energy Review, Annual Energy Outlook, Petroleum Supply Annual, and Natural Gas Annual;

(5) Annual Estimated Number of Respondents: Forms EIA-23L/23S/64A: 1,250.

(6) Annual Estimated Number of Total Responses: Forms EIA-23L/23S/64A: 1,250.

(7) Annual Estimated Number of Burden Hours: 32,850.

Form EIA-23L Annual Report of Domestic Oil and Gas Reserves (County Level): 36 hours per operator (320 intermediate-size operators); 97 hours per operator (160 large operators); 13 hours per operator (170 small operators): 29,250 hours

Form EIA-23S Annual Survey of Domestic Oil and Gas Reserves (Summary Version) Report: 4 hours (small operators): 0 hours (Currently suspended)

Form EIA-64A “Annual Report of the Origin of Natural Gas Liquids Production”: 6 hours per operator (600 natural gas plant operators): 3,600 hours

(8) Annual Estimated Reporting and Recordkeeping Cost Burden: Forms EIA-23L/23S/64A: EIA estimates that there are no capital and start-up costs associated with this data collection. The information is maintained in the normal course of business. The cost of burden hours to the respondents is estimated to be $2,365,857 (32,850 burden hours times $72.02 per hour). Therefore, other than the cost of burden hours, EIA estimates that there are no additional costs for generating, maintaining and providing the information.

Statutory Authority: Section 13(b) of the Federal Energy Administration Act of 1974, Pub. L. 93-275, codified at 15 U.S.C. 772(b).

Issued in Washington, DC, February 26, 2016.
Nanda Srinivasan,
Director, Office of Survey Development and Statistical Integration, U.S. Energy Information Administration.

[FR Doc. 2016-04759 Filed 3-2-16; 8:45 am]

BILLING CODE 6450-01-P